DEPARTMENT OF HOUSING AND URBAN DEVELOPMENT

[Docket No. FR-4837-D-30]

Redelegation of Authority for Public and Indian Housing and Supersedure of Prior Redelegation Concerning Native American Housing Programs

AGENCY: Office of the Assistant Secretary for Public and Indian Housing, HUD.

ACTION: Notice of redelegation and supersedure of authority.

SUMMARY: In this notice, the Assistant Secretary for Public and Indian Housing updates the redelegation of authority for administration of Native American housing programs to the Deputy Assistant Secretary for Native American Programs, the Office of Native American Programs (ONAP) Administrators, the Director of the Office of Grants Management, and the Director of the Office of Grants Evaluation, within ONAP, Office of Public and Indian Housing.

EFFECTIVE DATE: July 18, 2003.

FOR FURTHER INFORMATION CONTACT: Edward Fagan, Office of Native American Programs, Office of Public and Indian Housing, Department of Housing and Urban Development, 451 Seventh Street, SW., Room 4126, Washington DC 20410-5000; telephone (202) 401-7914 (this is not a toll-free number). For those needing assistance, this number may be accessed through TTY by calling the toll-free Federal Information Relay Service at 1-800-877-8339.

SUPPLEMENTARY INFORMATION: The Native American Housing Assistance and Self-Determination Act of 1996 (NAHASDA) (25 U.S.C. 4101 et seq.) provides housing assistance to Native Americans by means of a single block grant program. In a notice published in the Federal Register on October 2, 1998 (63 FR 53085), the Assistant Secretary for Public and Indian Housing redelegated, subject to certain exceptions, the authority to administer programs under NAHASDA to the Deputy Assistant Secretary for Native American Programs, the ONAP Administrators, the Director of the Office of Grants Management, and the Director of the Office of Grants Evaluation, within ONAP, Office of Public and Indian Housing. The Department is now in the process of updating its delegations. This updated redelegation supersedes the 1998 redelegation of authority. This updated redelegation also supersedes the redelegations of authority published on March 1, 1994 (59 FR 9764), and May 11, 1994 (59 FR 24463). The 1994 delegations referred to the head of ONAP as the Director and that title was subsequently changed to Deputy Assistant Secretary.

Section A. Authority Redelegated

Subject to authority excepted in section C of this notice, the Assistant Secretary for Public and Indian Housing redelegates to the Deputy Assistant Secretary for Native American Programs all the Assistant Secretary's authority to administer the programs under Titles I through V of the Native American Housing Assistance and Self-Determination Act of 1996, including the authority to review plans submitted in compliance with section 102 of NAHASDA and to notify the Tribe or tribally designated entity whether the plan complies with the statutory requirements, the reasons for noncompliance and the modifications necessary to meet the requirements of section 102 of NAHASDA.

Section B. Authority Further Redelegated

The Assistant Secretary further redelegates to the ONAP Administrators, the Director of the Office of Grants Management, and the Director of the Office of Grants Evaluation the authority to:

1. Conduct environmental reviews in compliance with section 105(b) of NAHASDA (25 U.S.C. 4115);

2. Execute all necessary agreements, including but not limited to grant agreements;

3. Review performance reports submitted by the Tribe or the tribally designated entity and issue reports based on such review; and

4. Any other authority necessary to carry out the purposes of Titles I through V of NAHASDA, which has not been excepted from this delegation.

Section C. Authority Excepted

The authority redelegated under section A and section B does not include (1) the authority to issue and waive regulations; (2) the authority to waive the requirement for submitting the plan as set forth in section 101(b)(2) of NAHASDA (25 U.S.C. 4116); (3) the authority to require replacement of a tribally designated housing entity pursuant to section 402 of NAHASDA (25 U.S.C. 4162); or (4) the authority to effect remedies for noncompliance requiring notice and opportunity for a hearing.

Section D. Authority To Further Redelegate

The authority delegated in section B, subject to the exceptions in section C may be redelegated to employees of the Department in accordance with a written delegation.

Section E. Authority Revoked

This delegation revokes and supersedes the redelegations of authority published on October 2, 1998 (63 FR 53085), March 1, 1994 (59 FR 9764), and May 11, 1994 (59 FR 24463).

Authority: Section 7(d), Department of Housing and Urban Development Act (42 U.S.C. 3535(d)).

Dated: July 18, 2003.
Michael Liu,
Assistant Secretary for Public and Indian Housing.

[FR Doc. 03-22846 Filed 9-8-03; 8:45 am]

BILLING CODE 4210-33-P